DEPARTMENT OF AGRICULTURE

Forest Service

Reports and Guidance Documents; Availability; Withdrawal of the Alaska Regional Guide

AGENCY: Forest Service, USDA.

ACTION: Notice.

SUMMARY: The intended effect of this action is to comply with 36 CFR part 219 § 219.35(e) which directs the Regional Forester must withdraw the Regional Guide. When a Regional Guide is withdrawn, the Regional Forester must identify the decisions in the Regional Guide that are to be transferred to a regional supplement of the Forest Service directive system (36 CFR 200.4) and to give notice in the Federal Register of these actions.

DATES: This action will be effective the date of this Federal Register notice.

FOR FURTHER INFORMATION CONTACT: Jan Lerum, Regional Planner, Alaska Region, P.O. Box 21628, Juneau, Alaska 99802. Telephone (907) 586-8796.

SUPPLEMENTARY INFORMATION: This action withdraws the Alaska Regional Guide and transfers some decisions therein to the Forest Service directive system. Specifically, this action transfers from the Regional Guide to a regional supplement to the FSM 2410 directives the management standards and guidelines for: Appropriate harvest cutting methods; forest type standards; maximum size of created openings (a requirement of the National Forest Management Act); dispersal and size variation of tree openings; management intensity; utilization standards; sale administration; project monitoring; and competitive bidding and small business.

Dated: April 8, 2002.
Jacqueline Myers,
Deputy Regional Forester.

[FR Doc. 02-9160 Filed 4-15-02; 8:45 am]

BILLING CODE 3410-11-M